DEPARTMENT OF TRANSPORTATION

Surface Transportation Board

[Docket No. FD 35798]

RMW Ventures, LLC—Corporate Family Transaction—Big Four Terminal Railroad, LLC, and Wabash Central Railway, LLC

RMW Ventures, LLC (RMW) filed a verified notice of exemption under 49 CFR 1180.2(d)(3) for a corporate family transaction within the family of business entities owned by Spencer N. Wendelin.

According to RMW, Mr. Wendelin currently owns RMW and the stock of both Big Four Terminal Railroad, LLC (BFTR) and Wabash Central Railway, LLC (WCR), Class III rail carriers. Applicant seeks authorization for RMW to acquire the stock of BFTR and WCR. According to RMW, the purpose of this transaction is to allow Mr. Wendelin to retain indirect control of BFTR and WCR through RMW.¹

¹ This transaction is related to a concurrently filed verified notice of exemption in Spencer N. Wendelin—Continuance in Control—RMW Ventures, LLC, Big Four Terminal Railroad, LLC, and Wabash Central Railway, LLC, Docket No. FD 35801, wherein Mr. Wendelin seeks continuance in control authority for RMW, BFTR, and WCR.

Applicant anticipates consummating the proposed transaction after the effective date of the exemption (30 days after the exemption was filed).²

² Applicant filed an amended notice of exemption on March 5, 2014. The proposed transaction may be consummated on April 4, 2014, the same day the notice of exemption in Docket No. FD 35801 becomes effective.

This is a transaction within a corporate family of the type exempted from prior review and approval under 49 CFR 1180.2(d)(3). RMW states that the transaction will not result in adverse changes in service levels, significant operational changes, or a change in the competitive balance with carriers outside the corporate family.

Under 49 U.S.C. 10502(g), the Board may not use its exemption authority to relieve a rail carrier of its statutory obligation to protect the interests of its employees. Section 11326(c), however, does not provide for labor protection for transactions under 11324 and 11325 that involve only Class III rail carriers. Accordingly, the Board may not impose labor protective conditions here, because the transaction involves only Class III rail carriers.

If the notice contains false or misleading information, the exemption is void ab initio. Petitions to revoke the exemption under 49 U.S.C. 10502(d) may be filed at any time. The filing of a petition to revoke will not automatically stay the effectiveness of the exemption. Petitions for stay must be filed no later than March 28, 2014 (at least seven days before the exemption becomes effective).

An original and 10 copies of all pleadings, referring to Docket No. FD 35798, must be filed with the Surface Transportation Board, 395 E Street SW., Washington, DC 20423-0001. In addition, one copy of each pleading must be served on counsel for RMW, Richard R. Wilson, 518 N. Center Street, Ste. 100, Ebensburg, PA 15931.

Board decisions and notices are available on our Web site at “WWW.STB.DOT.GOV.”

Decided: March 17, 2014.
By the Board, Rachel D. Campbell, Director, Office of Proceedings.
Raina S. White,
Clearance Clerk.

[FR Doc. 2014-06210 Filed 3-20-14; 8:45 am]

BILLING CODE 4915-01-P